ENVIRONMENTAL PROTECTION AGENCY

40 CFR Part 52

[EPA-R05-OAR-2023-0515; EPA-R05-OAR-2023-0516; EPA-R05-OAR-2023-0517; FRL-12810-02-R5]

Air Plan Approval; Michigan; Moderate Attainment Plan Elements for the Allegan County, Berrien County, and Muskegon County Areas for the 2015 Ozone Standard

AGENCY: Environmental Protection Agency (EPA).

ACTION: Final rule.

SUMMARY: The Environmental Protection Agency (EPA) is approving a revision to the Michigan State Implementation Plan (SIP) as meeting the reasonable further progress (RFP) requirements of the Clean Air Act (CAA) for the Allegan County (partial county), Berrien County, and Muskegon County (partial county) Moderate nonattainment areas for the 2015 ozone national ambient air quality standard (NAAQS). The EPA is also approving updated 2017 base year emissions inventories and is finding adequate and approving the 2023 motor vehicle emissions budgets (budgets) associated with the Allegan County, Berrien County, and Muskegon County Moderate ozone nonattainment RFP demonstrations. The EPA is approving these portions of the State's SIP submission pursuant to section 110 and part D of the CAA, and EPA's regulations. The EPA proposed to approve this action on December 11, 2025, and received no adverse comments.

DATES: This final rule is effective on March 30, 2026.

ADDRESSES: The EPA has established dockets for this action under Docket ID Nos. EPA-R05-OAR-2023-0515, EPA-R05-OAR-2023-0516, and EPA-R05-OAR-2023-0517. All documents in the docket are listed on the https://www.regulations.gov website. Although listed in the index, some information is not publicly available, i.e., Confidential Business Information (CBI), Proprietary Business Information (PBI), or other information whose disclosure is restricted by statute. Certain other material, such as copyrighted material, is not placed on the internet and will be publicly available only in hard copy form. Publicly available docket materials are available either through https://www.regulations.gov or at the Environmental Protection Agency, Region 5, Air and Radiation Division, 77 West Jackson Boulevard, Chicago, Illinois 60604. This facility is open from 8:30 a.m. to 4:30 p.m., Monday through Friday, excluding Federal holidays. We recommend that you telephone Kathleen D'Agostino, at (312) 886-1767 before visiting the Region 5 office.

FOR FURTHER INFORMATION CONTACT: Kathleen D'Agostino, Air and Radiation Division (AR-18J), Environmental Protection Agency, Region 5, 77 West Jackson Boulevard, Chicago, Illinois, 60604, (312) 886-1767, dagostino.kathleen@epa.gov.

SUPPLEMENTARY INFORMATION: Throughout this document whenever “we,” “us,” or “our” is used, we mean the EPA.

I. Background Information

On December 11, 2025 (90 FR 57403), the EPA proposed to approve Michigan's updated 2017 base year emissions inventory and 15 percent RFP demonstration, including the associated motor vehicle emissions budgets, as revisions to Michigan's SIP pursuant to section 110 and part D of the CAA and EPA's regulations because EGLE's October 16, 2023, submission satisfies the base year inventory and RFP requirements of the CAA for the Allegan County, Berrien County and Muskegon County areas under the 2015 ozone NAAQS. The EPA also initiated the adequacy process for the 2023 motor vehicle emissions budgets for the Allegan County, Berrien County and Muskegon County areas included in this SIP submission. An explanation of the CAA requirements, a detailed analysis of the revisions, and the EPA's reasons for proposing approval were provided in the notice of proposed rulemaking, and will not be restated here. The public comment period for this proposed rule ended on January 12, 2026. The EPA received no comments on the proposal.

II. Final Action

The EPA is approving Michigan's updated 2017 base year emissions inventory and 15 percent RFP demonstration, including the associated motor vehicle emissions budgets, as revisions to Michigan's SIP pursuant to section 110 and part D of the CAA and the EPA's regulations because EGLE's October 16, 2023, submission satisfies the base year inventory and RFP requirements of the CAA for the Allegan County, Berrien County and Muskegon County areas under the 2015 ozone NAAQS. The EPA is also finding adequate the 2023 motor vehicle emissions budgets for the Allegan County, Berrien County and Muskegon County areas included in this SIP submission.

III. Statutory and Executive Order Reviews

Under the CAA, the Administrator is required to approve a SIP submission that complies with the provisions of the CAA and applicable Federal regulations. 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the CAA, petitions for judicial review of this action must be filed in the United States Court of Appeals for the appropriate circuit by April 27, 2026. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen oxides, Ozone, Volatile organic compounds.

Dated: February 19, 2026.
Anne Vogel,
Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. In § 52.1170, the table in paragraph (e) is amended by adding an entry for “2015 8-hour ozone Moderate RFP plans and motor vehicle emission budgets” after the entry for “2015 Ozone Clean Data Determination” and revising the second entry for “2015 8-hour ozone 2017 base year” to read as follows:

§ 52.1170 Identification of plan.

* * * * *

(e) * * *

EPA-Approved Michigan Nonregulatory and Quasi-Regulatory Provisions
Name of nonregulatory SIP provision | Applicable geographic or nonattainment area | State submittal date | EPA approval date | Comments
* * * * * * *
2015 8-hour ozone Moderate RFP plans and motor vehicle emission budgets | Allegan County (part), Berrien County, and Muskegon County (part) | 10/16/2023 | 2/26/2026, 91 FR [Insert Federal Register page where the document begins] |
* * * * * * *
Emissions Inventories
* * * * * * *
2015 8-hour ozone 2017 base year | Allegan County (part), Berrien County, and Muskegon County (part) | 10/16/2023 | 2/26/2026, 91 FR [Insert Federal Register page where the document begins] |
* * * * * * *

* * * * *

[FR Doc. 2026-03880 Filed 2-25-26; 8:45 am]

BILLING CODE 6560-50-P